DEPARTMENT OF TRANSPORTATION

Federal Railroad Administration

[Docket No. FRA-2021-0039, Notice No. 1]

Public Meeting on Railroad Safety Advisory Committee Process

AGENCY: Federal Railroad Administration (FRA), Department of Transportation (DOT).

ACTION: Announcement of public meeting.

SUMMARY: The Federal Railroad Administration (FRA) invites interested persons to participate in a public meeting to discuss recommendations to improve the efficiency and effectiveness of FRA's Railroad Safety Advisory Committee (RSAC). The RSAC is a Federal Advisory Committee that provides a forum for collaborative problem solving of critical safety issues and, as appropriate, develops recommendations for railroad safety regulations through a consensus process.

DATES: The public meeting is scheduled for April 16, 2021. The meeting will commence at 10:00 a.m. and will adjourn by 12:00 p.m. (all times Eastern Daylight Time). Requests to attend the meeting must be received by April 9, 2021. Requests for time to speak at the meeting must be received by April 9, 2021, and must include any written materials intended for presentation at the meeting. Requests for accommodations because of a disability must be received by April 9, 2021.

ADDRESSES: The meeting will be held by phone. Information on how to call into the meeting will be provided upon registration.

Comments on the RSAC process in response to this Announcement should be submitted to docket number FRA-2021-0039 at regulations.gov.

FOR FURTHER INFORMATION CONTACT: Kenton Kilgore, RSAC Designated Federal Officer/RSAC Coordinator, FRA Office of Railroad Safety, (202) 493-6286 or kenton.kilgore@dot.gov.

SUPPLEMENTARY INFORMATION: The RSAC is a Federal Advisory Committee composed of 34 voting representatives from 23 member organizations, representing various rail industry perspectives. The RSAC has a balanced membership of railroad management, labor, and other appropriate railroad industry stakeholders. The RSAC's past recommendations reflect the participants' careful evaluation of significant and complex safety and regulatory issues. The RSAC has addressed 58 tasks and conducted almost 600 committee, working group, and task force meetings on critical safety issues.

A copy of the current RSAC charter and other relevant reference documents are available in the docket for review. Additional general information about the RSAC is available on the RSAC website at https://rsac.fra.dot.gov/.

This meeting is intended to solicit public input on the RSAC's current charter and related requirements, and input on how to improve the RSAC process generally. Although FRA welcomes input on any issues related to the structure, organization, and processes of the RSAC, in advance of the meeting FRA will post an agenda in the docket highlighting specific issues on which FRA is interested in receiving feedback. FRA will compile all input received at the meeting and post that compilation to the docket.

Public Participation: The meeting will be open to the public, but attendance may be limited due to the number of available phone lines. To register, please send an email to Mr. Kilgore at kenton.kilgore@dot.gov by April 9, 2021. DOT and FRA are committed to providing equal access to this meeting for all participants. If you need alternative formats or services because of a disability, please include your requested accommodations in your registration email. Written comments on the RSAC process should be submitted to the public docket noted above. To provide comment during the meeting, please send an email, including any written materials to accompany your comment, please send an email to Mr. Kilgore at kenton.kilgore@dot.gov by April 9, 2021, to allow for review.

Issued in Washington, DC, on March 26, 2021.
Brett A. Jortland,
Acting Chief Counsel.

[FR Doc. 2021-06643 Filed 3-30-21; 8:45 am]

BILLING CODE 4910-06-P